DEPARTMENT OF AGRICULTURE

Animal and Plant Health Inspection Service

[Docket No. APHIS-2017-0018]

Draft Environmental Impact Statement and Preliminary Pest Risk Assessment for Permit for Release of Genetically Engineered Citrus Tristeza Virus

AGENCY: Animal and Plant Health Inspection Service, USDA.

ACTION: Notice of availability; reopening of comment period.

SUMMARY: We are reopening the comment period for our notice that made available a draft environmental impact statement (EIS) and preliminary pest risk assessment (PRA) regarding the potential environmental impacts and plant pest risk associated with the proposed environmental release of genetically engineered Citrus tristeza virus. We have updated the EIS and PRA in light of recently published scientific research regarding the vectoring of Citrus tristeza virus, and are making the updated EIS and PRA available for public review and comment. This action will allow interested persons additional time to prepare and submit comments on these revised documents.

DATES: The comment period for the notice published on May 17, 2018 (83 FR 22944-22945) is reopened. We will consider all comments that we receive on or before April 30, 2019.

ADDRESSES: You may submit comments by either of the following methods:

• Federal eRulemaking Portal: Go to http://www.regulations.gov/#!docketDetail;D=APHIS-2017-0018.

• Postal Mail/Commercial Delivery: Send your comment to Docket No. APHIS-2017-0018, Regulatory Analysis and Development, PPD, APHIS, Station 3A-03.8, 4700 River Road Unit 118, Riverdale, MD 20737-1238.

Supporting documents and any comments we receive on this docket may be viewed at http://www.regulations.gov/#!docketDetail;D=APHIS-2017-0018 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Margaret Jones, Senior Biotechnologist, Plant Pests, and Protectants Branch, Biotechnology Regulatory Services, APHIS, 4700 River Road Unit 147, Riverdale, MD 20737-1238; (301) 851-3916, email: Margaret.J.Jones@.usda.gov. To obtain copies of the documents, contact Ms. Cindy Eck at (301) 851-3892, email: Cynthia.A.Eck@.usda.gov.

SUPPLEMENTARY INFORMATION:

Background

Under the authority of the plant pest provisions of the Plant Protection Act (PPA), as amended (7 U.S.C. 7701 et seq.), the regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” The regulations in § 340.2 contain a list of organisms considered to be regulated articles, including all members of groups containing plant viruses, and all insect viruses.

The regulations in § 340.4(a) provide that any person may submit an application for a permit for the introduction of a regulated article to the Animal and Plant Health Inspection Service (APHIS). Southern Gardens Citrus Nursery, LLC, has submitted an application seeking a permit for the environmental release of genetically engineered Citrus tristeza virus throughout the State of Florida. The virus has been genetically engineered to express defensin proteins from spinach as a biological control approach to manage citrus greening disease in the State of Florida. Citrus greening disease, also called huanglongbing, was first detected in the United States in 2005 in Florida, and has since become a devastating disease of citrus within the United States.

In response to this request, on May 17, 2018, we published in the Federal Register (83 FR 22944-22945, Docket No. APHIS-2017-0018) a notice ¹ that made available a draft environmental impact statement (EIS) and preliminary pest risk assessment (PRA) regarding the potential environmental impacts and plant pest risk associated with the proposed environmental release of the virus. Comments on the notice were required to be received on or before June 25, 2018.

¹ To view the notice and the comments that we received, go to http://www.regulations.gov/#!docketDetail;D=APHIS-2017-0018.

Following the close of the comment period, an article ² was published in the Archives of Virology regarding the interaction of different strains of Citrus tristeza virus within citrus. Harper et al. found that, under laboratory-optimized conditions, if citrus plants contain more than one strain of the virus, aphid transmission of the virus could be affected.

² Harper, S.J., S.J. Cowell, and W.O. Dawson, “Bottlenecks and Complementation in the Aphid Transmission of Citrus Tristeza Virus Populations”, Archives of Virology, 163: 12 (December 2018), 3373-3376. Referred to below as “Harper et al.”

While these findings do not affect the overall conclusions of the PRA or EIS, they are not reflected in statements that we made in the two documents regarding the transmissibility of the virus. Accordingly, we have updated the PRA and EIS to incorporate the findings of Harper et al.

We are reopening the comment period on Docket No. APHIS-2017-0018 for an additional 15 days, and are making the updated PRA and EIS available for public review and comment. This action will allow interested persons additional time to prepare and submit comments.

Done in Washington, DC, this 10th day of April 2019.
Kevin Shea,
Administrator, Animal and Plant Health Inspection Service.

[FR Doc. 2019-07439 Filed 4-12-19; 8:45 am]

BILLING CODE 3410-34-P